SUSQUEHANNA RIVER BASIN COMMISSION

Revocation of Approvals

AGENCY: Susquehanna River Basin Commission.

ACTION: Notice.

SUMMARY: This notice lists the projects approved by rule by the Susquehanna River Basin Commission during the period set forth in DATES.

DATES: December 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, that have been revoked for the time period specified above:

Revocation of Approvals by Rule—Issued Under 18 CFR 806.22(f):

1. XPR Resources, LLC; Pad ID: Resource Recovery Well #1; ABR-201010059.R1; Snow Shoe Township, Centre County, Pa.; Revocation of Approval Date: December 24, 2019.

2. Seneca Resources Company, LLC; Pad ID: Gamble Pad G; ABR-201906005; Gamble Township, Lycoming County, Pa.; Revocation of Approval Date: December 26, 2019.

3. Seneca Resources Company, LLC; Pad ID: C09-E; ABR-201512009; Shippen Township, Cameron County, Pa.; Revocation of Approval Date: December 26, 2019.

4. Chief Oil & Gas, LLC; Pad ID: Andrus Drilling Pad #1; ABR-201101023.R1; Franklin and Granville Townships, Bradford County, Pa.; Revocation of Approval Date: December 30, 2019.

(Authority: Pub. L. 91-575, 84 Stat. 1509 et seq., 18 CFR parts 806, 807, and 808)

Dated: March 16, 2020.
Jason E. Oyler,
General Counsel and Secretary to the Commission.

[FR Doc. 2020-05873 Filed 3-19-20; 8:45 am]

BILLING CODE 7040-01-P